DEPARTMENT OF THE INTERIOR

Fish and Wildlife Service

Endangered and Threatened Wildlife and Plants; Reopening of Comment Period for the Notice of Intent To Clarify the Role of Habitat in Endangered Species Conservation; Announcement of Workshops

AGENCY: Fish and Wildlife Service, Interior.

ACTION: Notice; reopening of comment period.

SUMMARY: We (the U.S. Fish and Wildlife Service) reopen the comment period on our notice of intent to develop policy or guidance and/or to revise regulations, if necessary, to clarify the role of habitat in endangered species conservation. We are reopening the comment period to allow us to receive comments in conjunction with two critical habitat workshops to be held with major stakeholders. We will analyze additional comments received during this comment period from workshop participants, others who wish to comment on issues raised at the workshop, and any additional comments, as well as those we received during the two previous comment periods, and will consider these comments when preparing new proposed guidance, policy, or regulations, as appropriate.

DATES: We will accept comments on this guidance until February 24, 2000. The first workshop will be held in Reston, Virginia, on February 8, 2000, and the second in Tempe, Arizona, on February 11, 2000. Members of the public who wish to attend as an observer are requested to contact the U.S. Institute for Environmental Conflict Resolution (see ADDRESSES section) by February 3, 2000.

ADDRESSES: Submit your comments to the Chief, Division of Endangered Species, U.S. Fish and Wildlife Service, 1849 C Street, NW, Mailstop ARLSQ-420, Washington, D.C. 20240. If you are interested in attending a workshop as an observer, contact Tina Urbina, Executive Assistant, U.S. Institute for Environmental Conflict Resolution, 110 South Church Avenue, Suite 3350, Tempe, Arizona 85701, telephone 520/670-5299, facsimile 520/670-5530.

FOR FURTHER INFORMATION CONTACT: Nancy Gloman, Chief, Division of Endangered Species, U.S. Fish and Wildlife Service, 703-358-2171 (see ADDRESSES section).

SUPPLEMENTARY INFORMATION:

Background

On June 14, 1999 (64 FR 31871), we published a notice of our intent to develop policy or guidance and/or to revise regulations, if necessary, to clarify the role of habitat in endangered species conservation. In that notice, we sought comments on the benefits of the designation of critical habitat, beyond the benefits that result from the act of listing species as endangered or threatened, and what considerations should be included in determining whether a designation of critical habitat is prudent. We also requested comments and suggestions on how we can effectively streamline the process of designating critical habitat and specifically whether and how our existing regulations might or should be changed to accomplish this goal. Additionally, we requested comments and suggestions on possible legislative actions that might improve the effectiveness and efficiency of the critical habitat process. We reopened the comment period on August 30, 1999 (64 FR 47195), in order to provide additional time for interested parties to comment on this important issue.

Based on our preliminary review of the comments, a wide range of opinions exists on the role of habitat in endangered species conservation. We felt it would be beneficial to have a focus group provide their individual views on these issues. We have contracted with the U.S. Institute for Environmental Conflict Resolution to hold two workshops with major stakeholders to discuss critical habitat issues, such as the regulatory effect of designating critical habitat, linking critical habitat designation to recovery planning, and the relationship between critical habitat and habitat conservation planning under section 10 of the Act. These participants will not act as a committee and there will be no attempt to seek a group recommendation on any issue. The workshops are scheduled to be held in Reston, Virginia, on February 8, 2000, and Tempe, Arizona, on February 11, 2000. In order to facilitate a meaningful discussion, we have invited a small number of participants representing Federal, State, and local governments, Congress, resource user groups, environmental organizations, and academia. Additional seats will be available for members of the public to attend as observers, who will be given a limited time on the agenda to provide comments. If you would like to attend as an observer, please contact the U.S. Institute for Environmental Conflict Resolution (see ADDRESSES section) by February 3, 2000, so that we can judge the amount of interest.

Public Comments Solicited

We will take into consideration any comments and additional information received. We will make available for your review and comment any proposed guidance, policy, or regulatory changes that are developed.

Authority

The authority for this notice is the Endangered Species Act of 1973, as amended, 16 U.S.C. 1531 et seq.

Dated: January 19, 2000.
Jamie Rappaport Clark,
Director, U.S. Fish and Wildlife Service.

[FR Doc. 00-1745 Filed 1-24-00; 8:45 am]

BILLING CODE 4310-55-P